DEPARTMENT OF HEALTH AND HUMAN SERVICES

National Institutes of Health

Submission for OMB Review; 30-Day Comment Request: Application Process for Clinical Research Training and Medical Education at the Clinical Center and Its Impact on Course and Training Program Enrollment and Effectiveness

SUMMARY: Under the provisions of Section 3507(a)(1)(D) of the Paperwork Reduction Act of 1995, the National Institutes of Health (NIH) has submitted to the Office of Management and Budget (OMB) a request for review and approval of the information collection listed below. This proposed information collection was previously published in the Federal Register on October 2, 2013, page 60885 and allowed 60-days for public comment. No public comments were received. The purpose of this notice is to allow an additional 30 days for public comment. The Clinical Center (CC), National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

DATES: Comment Due Date: Comments regarding this information collection are best assured of having their full effect if received within 30-days of the date of this publication.

FOR FURTHER INFORMATION CONTACT: To obtain a copy of the data collection plans and instruments or request more information on the proposed project contact: Robert M. Lembo, MD, Deputy Director, Office of Clinical Research Training and Medical Education, NIH Clinical Center, 10 Center Drive, MSC 1158, Bethesda, MD 20892-1352, or call non-toll-free number (301)-594-4193, or Email your request, including your address to: lembor@mail.nih.gov. Formal requests for additional plans and instruments must be requested in writing.

Proposed Collection: Application Process for Clinical Research Training and Medical Education at the Clinical Center and its Impact on Course and Training Program Enrollment and Effectiveness—Existing collection in use without OMB control number—Clinical Center, National Institutes of Health (CC), National Institutes of Health (NIH).

Need and Use of Information Collection: The primary objective of the application process is to allow OCRTME to evaluate applicants' qualifications to determine applicants' eligibility for courses and training programs managed by the office. Applicants must provide the required information requested in the respective applications to be considered a candidate for participation. Information submitted by candidates for training programs is reviewed initially by OCRTME administrative staff to establish eligibility for participation. Eligible candidates are then referred to the designated training program director or training program selection committee for review and decisions regarding acceptance for participation. A secondary objective of the application process is to track enrollment in courses and training programs over time.

OMB approval is requested for 3 years. There are additional costs to the respondents other than their time. The total estimated annualized burden hours are 2,210.

Estimated Annualized Burden Hours
Type of applicants | Estimated number of applicants | Estimated number of applications per applicant | Burden per application (in hours) | Total annual burden hours requested
Doctoral Level | 6,488 | 1 | 20/60 | 2,163
Students | 82 | 1 | 20/60 | 27
Other | 59 | 1 | 20/60 | 20

Dated: December 18, 2013.
Laura Lee,
Project Clearance Liaison, Clinical Center, National Institutes of Health.

[FR Doc. 2013-31365 Filed 12-30-13; 8:45 am]

BILLING CODE 4140-01-P